DEPARTMENT OF COMMERCE

National Oceanic and Atmospheric Administration

50 CFR Part 622

[Docket No. 140501394-5279-02; RTID 0648-XD317]

Fisheries of the Caribbean, Gulf of Mexico, and South Atlantic; Re-Opening of the Commercial Sector for Blueline Tilefish in the South Atlantic

AGENCY: National Marine Fisheries Service (NMFS), National Oceanic and Atmospheric Administration (NOAA), Commerce.

ACTION: Temporary rule; re-opening.

SUMMARY: NMFS announces the re-opening of the commercial sector for blueline tilefish in the exclusive economic zone (EEZ) of the South Atlantic through this temporary rule. The most recent data for commercial landings of blueline tilefish indicate the commercial annual catch limit (ACL) for the 2023 fishing year has not yet been reached. Therefore, NMFS re-opens the commercial sector to harvest blueline tilefish in the South Atlantic EEZ for 6 days. The purpose of this temporary rule is to allow for the commercial ACL of blueline tilefish to be harvested while minimizing the risk of exceeding the commercial ACL.

DATES: This temporary rule is effective from 12:01 a.m. eastern time on September 11, 2023, through September 16, 2023.

FOR FURTHER INFORMATION CONTACT: Mary Vara, NMFS Southeast Regional Office, telephone: 727-824-5305, email: mary.vara@noaa.gov.

SUPPLEMENTARY INFORMATION: The snapper-grouper fishery of the South Atlantic includes blueline tilefish and is managed under the Fishery Management Plan for the Snapper-Grouper Fishery of the South Atlantic Region (FMP). The FMP was prepared by the South Atlantic Fishery Management Council (Council) and is implemented by NMFS under the authority of the Magnuson-Stevens Fishery Conservation and Management Act (Magnuson-Stevens Act) by regulations at 50 CFR part 622. All weights in this temporary rule are given in round weight.

Regulations at 50 CFR 622.193(z)(1)(i) specify the commercial ACL for blueline tilefish of 117,148 lb (53,137 kg), and the commercial accountability measure for blueline tilefish. NMFS is required to close the commercial sector when its ACL is reached, or is projected to be reached, by filing a notification to that effect with the Office of the Federal Register. Recently in this 2023 fishing year, NMFS projected that commercial landings of blueline tilefish would reach the commercial ACL on August 2, 2023, and therefore closed commercial harvest for the rest of the year on that date (88 FR 50806, August 2, 2023). However, a recent update of commercial landings data indicates that the commercial ACL for blueline tilefish was not reached on August 2, 2023.

In accordance with 50 CFR 622.8(c), NMFS temporarily re-opens the commercial sector for blueline tilefish on September 11, 2023. The commercial sector will be open for 6 days or through September 16, 2023, to allow for the commercial ACL to be reached. The commercial sector will close again on September 17, 2023, and remain closed until January 1, 2024, the start of the next fishing year. NMFS has determined that this re-opening will allow for an additional opportunity to commercially harvest blueline tilefish while reducing the risk of exceeding the commercial ACL.

The operator of a vessel with a valid Federal commercial vessel permit for South Atlantic snapper-grouper with blueline tilefish on the vessel must have landed and bartered, traded, or sold such blueline tilefish before September 17, 2023. During the subsequent commercial closure from September 17 through the rest of 2023, all sale or purchase of blueline tilefish is prohibited. The recreational sector for blueline tilefish in the South Atlantic EEZ is closed each year from January 1 through April 30, and from September 1 through December 31, and during these periods the bag and possession limits for blueline tilefish in or from the South Atlantic EEZ are zero. Additionally, these bag and possession limits apply to the harvest of blueline tilefish in both state and Federal waters in the South Atlantic on a vessel with a valid Federal commercial or charter vessel/headboat permit for South Atlantic snapper-grouper.

Classification

NMFS issues this action pursuant to section 305(d) of the Magnuson-Stevens Act. This action is taken under 50 CFR 622.8(c), issued pursuant to section 304(b) of the Magnuson-Stevens Act, and is exempt from review under Executive Order 12866.

Pursuant to 5 U.S.C. 553(b)(B), there is good cause to waive prior notice and an opportunity for public comment on this action, as notice and comment is unnecessary. Such procedure is unnecessary, because the regulations associated with the commercial ACL of blueline tilefish and a re-opening to provide an opportunity for the commercial ACL to be harvested have already been subject to notice and public comment, and all that remains is to notify the public of the commercial sector re-opening.

For the reasons stated earlier, the Assistant Administrator for Fisheries also finds good cause to waive the 30-day delay in the effectiveness of this action under 5 U.S.C. 553(d)(3).

Authority: 16 U.S.C. 1801 et seq.

Dated: September 5, 2023.
Jennifer M. Wallace,
Acting Director, Office of Sustainable Fisheries, National Marine Fisheries Service.

[FR Doc. 2023-19450 Filed 9-5-23; 4:15 pm]

BILLING CODE 3510-22-P